NUCLEAR REGULATORY COMMISSION

Advisory Committee on Reactor Safeguards; Meeting of the ACRS Subcommittee on Plant Operations and Fire Protection; Revision to an ACRS Subcommittee Meeting Federal Register Notice

The Federal Register Notice for the ACRS Subcommittee Meeting on Plant Operations and Fire Protection scheduled to be held on July 28, 2011, is being revised to notify the following:

The Subcommittee will meet with Region II to discuss the construction inspection program, the reactor oversight program, and other items of mutual interest.

If attending this meeting, please contact Ms. Denise Edwards (Telephone 404-997-4432) to be escorted to the meeting room.

The notice of this meeting was previously published in the Federal Register on Wednesday, June 29, 2011 [75 FR 38212]. All other items remain the same as previously published.

Further information regarding this meeting can be obtained by contacting Mrs. Ilka Berrios, Designated Federal Official (Telephone: 301-415-3179 or E-mail: Ilka.Berrios@nrc.gov) between 7:30 a.m. and 5:15 p.m. (ET).

Dated: July 1, 2011.
Yoira Diaz-Sanabria,
Senior Staff Engineer, Technical Support Branch, Advisory Committee on Reactor Safeguards.

[FR Doc. 2011-17154 Filed 7-7-11; 8:45 am]

BILLING CODE 7590-01-P